Title 3—

The President

Proclamation 8312 of October 29, 2008

National Alzheimer's Disease Awareness Month, 2008

By the President of the United States of America

A Proclamation

During National Alzheimer's Disease Awareness Month, we recognize the dignity and courage of the men and women living with Alzheimer's disease. We also honor the devoted family members and caretakers who bring them love and comfort, and we underscore our dedication to finding a cure for this tragic disease.

Alzheimer's disease is a brain disorder that seriously impairs a person's ability to function normally. Age is the most important known risk factor, and scientists are studying the role that genetics, education, diet, and environment might play in the development of this debilitating disease. Through research supported by the National Institutes of Health and the Department of Veterans Affairs, we are learning more about the disease and enhancing the quality of life for those affected. In addition, the Department of Health and Human Services is improving the delivery of home and community-based services to people with Alzheimer's.

National Alzheimer's Disease Awareness Month is an opportunity to pay tribute to the courageous individuals facing this disease and remember the precious lives lost due to Alzheimer's. All Americans appreciate the strong support and dedication of the families, medical professionals, scientific researchers, and caregivers who are helping build a society that values the life and dignity of every person.

NOW, THEREFORE, I, GEORGE W. BUSH, President of the United States of America, by virtue of the authority vested in me by the Constitution and laws of the United States, do hereby proclaim November 2008 as National Alzheimer's Disease Awareness Month. I call upon the people of the United States to observe this month with appropriate programs and activities.

IN WITNESS WHEREOF, I have hereunto set my hand this twenty-ninth day of October, in the year of our Lord two thousand eight, and of the Independence of the United States of America the two hundred and thirty-third.

[FR Doc. E8-26223

Filed 10-30-08; 11:15 am]

Billing code 3195-W9-P